DEPARTMENT OF HEALTH AND HUMAN SERVICES

Centers for Medicare & Medicaid Services

Performance Review Board Membership

AGENCY: Centers for Medicare & Medicaid Services.

ACTION: Notice of Performance Review Board membership.

SUMMARY: The U.S. Code of Federal Regulations requires each agency to establish, in accordance with regulations prescribed by the Office of Personnel Management, one or more Senior Executive Service (SES) Performance Review Boards (PRBs).

FOR FURTHER INFORMATION CONTACT: Lei Lonni Giroux, 410-786-4175 or leilonni.giroux@cms.hhs.gov.

SUPPLEMENTARY INFORMATION: The PRB shall review and evaluate the initial summary rating of a senior executive's performance, the executive's response, and the higher-level official's comments on the initial summary rating. In addition, the PRB will review and recommend executive performance bonuses and pay increases.

5 U.S.C. 4314(c)(4) requires the appointment of board members to be published in the Federal Register. The following persons comprise a standing roster to serve as members of the SES PRB for the Centers for Medicare & Medicaid Services:

Jonathan Blum, Principal Deputy Administrator and Chief Operating Officer (serves as the Chair)

Stephanie Bovell, Acting Director, Office of Human Capital (serves as co-chair)

John Czajkowski, Deputy Chief Operating Officer

Elizabeth Fowler, Deputy Administrator and Director, Center of Medicare and Medicaid Innovation

Timothy Engelhardt, Director, Federal Coordinated Health Care Office

George Hoffman, Deputy Director, Office Information Technology and Deputy Chief Information Officer

Kathleen Cantwell, Office of Strategic Operations and Regulatory Affairs

Jean Moody-Williams, Deputy Director, Center for Clinical Standards and Quality

Ing-Jey Cheng, Director, Chronic Care Policy Group, Center for Medicare

Boulanger, Jennifer, Deputy Director Office of Legislation

The Deputy Administrator and Chief Operating Officer of the Centers for Medicare & Medicaid Services (CMS), Jonathan Blum, having reviewed and approved this document, authorizes Vanessa Garcia, who is the Federal Register Liaison, to electronically sign this document for purposes of publication in the Federal Register.

Vanessa Garcia,
Federal Register Liaison, Centers for Medicare & Medicaid Services.

[FR Doc. 2024-13696 Filed 6-21-24; 8:45 am]

BILLING CODE 4120-01-P